DEPARTMENT OF ENERGY

Federal Energy Regulatory Commission

[Docket No. RP00-272-001]

Garden Banks Gas Pipeline, LLC; Notice of Proposed Changes in FERC Gas Tariff

May 31, 2000.

Take notice that on May 25, 2000, Garden Banks Gas Pipeline, LLC (GBGP) tendered for filing as part of its FERC Gas Tariff, Original Volume No. 1, the following revised tariff sheets to be effective May 1, 2000:

Substitute Second Revised Sheet No. 293

Substitute Second Revised Sheet No. 294

On May 5, 2000, GBGP filed tariff sheets in Docket No. RP00-272-000 (May 5th filing) to revise its Form of Interactive Internet Website Agreement because of a change of vendors for its interactive Internet website computer applications. GBGP used language similar to the language filed by Mississippi Canyon Gas Pipeline, LLC (MCGP) and Nautilus Pipeline Company, L.L.C (Nautilus) in Docket Nos. RP00-271-000 and RP00-270-000, respectively. A shipper objected to certain revised language in both of those proceedings. MCGP and Nautilus are filing contemporaneously herewith, to replace the objectionable language with language currently in effect. Although no party objected to GBBP's proposed language, GBGP is willing to restore the currently effective tariff language in order to remain consistent with the Nautilus and MCGP tariffs and alleviate any similar concerns. In addition, GBGP is correcting an incorrect reference to Interactive Internet Website that was included in the original filing. GBGP requests waiver of the 30-day notice requirement in section 154.207 so that the tariff sheets contained herein can become effective on the same date as the tariff sheets filed in the original May 5th filing.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-14080 Filed 6-5-00; 8:45 am]

BILLING CODE 6717-01-M